DEPARTMENT OF ENERGY

Federal Energy Regulatory Commission

Combined Notice of Filings

Take notice that the Commission has received the following Natural Gas Pipeline Rate and Refund Report filings:

Filings in Existing Proceedings

Docket Number: PR22-28-000.

Applicants: Columbia Gas of Ohio, Inc.

Description: Submits tariff filing per 284.123(b),(e)/: COH SOC Rates effective 1-31-2022 to be effective 1/31/2022.

Filed Date: 3/2/2022.

Accession Number: 20220302¬5147.

Comments/Protests Due: 5 p.m. ET 3/23/22.

Docket Numbers: RP22-676-000.

Applicants: Stagecoach Pipeline & Storage Company LLC.

Description: § 4(d) Rate Filing: Stagecoach Pipeline & Storage Company LLC NRA Chesapeake Energy Marketing LLC to be effective 4/1/2022.

Filed Date: 3/4/22.

Accession Number: 20220304-5052.

Comment Date: 5 p.m. ET 3/16/22.

Docket Numbers: RP22-677-000.

Applicants: Tennessee Gas Pipeline Company, L.L.C.

Description: § 4(d) Rate Filing: Volume No. 2—Direct Energy SP64598 & SP346759 BKV SP367952 to be effective 4/1/2022.

Filed Date: 3/4/22.

Accession Number: 20220304-5054.

Comment Date: 5 p.m. ET 3/16/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2022.
Kimberly D. Bose,
Secretary.

[FR Doc. 2022-05056 Filed 3-9-22; 8:45 am]

BILLING CODE 6717-01-P